DEPARTMENT OF AGRICULTURE

Animal and Plant Health Inspection Service

[Docket No. 02-113-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of the Veterinary Accreditation Program.

DATES: We will consider all comments that we receive on or before March 7, 2003.

ADDRESSES: You may submit comments by postal mail/commercial delivery or by e-mail. If you use postal mail/commercial delivery, please send four copies of your comment (an original and three copies) to: Docket No. 02-113-1, Regulatory Analysis and Development, PPD, APHIS, Station 3C71, 4700 River Road Unit 118, Riverdale, MD 20737-1238. Please state that your comment refers to Docket No. 02-113-1. If you use e-mail, address your comment to regulations@aphis.usda.gov. Your comment must be contained in the body of your message; do not send attached files. Please include your name and address in your message and “Docket No. 02-113-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding the Veterinary Accreditation Program, contact Dr. Quita Bowman, National Veterinary Accreditation Program Coordinator, National Center for Animal Health Programs, VS, APHIS, 4700 River Road Unit 46, Riverdale, MD 20737-1231; (301) 734-6188. For copies of more detailed information on the information collection, contact Mrs. Celeste Sickles, APHIS” Information Collection Coordinator, at (301) 734-7477.

SUPPLEMENTARY INFORMATION: Title: Veterinary Accreditation Program.

OMB Number: 0579-0032.

Type of Request: Extension of approval of an information collection.

Abstract: The Animal and Plant Health Inspection Service (APHIS) of the U.S. Department of Agriculture is responsible for, among other things, protecting the health of our Nation's livestock and poultry populations by preventing the spread of contagious, infectious, or communicable diseases of livestock and poultry and for eradicating such diseases from the United States when feasible.

However, because APHIS does not have sufficient personnel to perform all necessary animal disease prevention activities, we rely heavily on assistance from veterinarians in the private sector.

Veterinary Services (VS), APHIS, administers the Veterinary Accreditation Program that authorizes private veterinary practitioners to work cooperatively with VS, as well as with State animal health officials, to carry out regulatory programs that ensure the health of the Nation's livestock and poultry.

Operating this program requires us to engage in a number of information gathering activities, including:

• Conducting veterinary accreditation orientation and training.

• Completing animal health certificates.

• Applying and removing official seals.

• Completing test reports.

• Reviewing applications for veterinary accreditation and reaccreditation.

• Recordkeeping.

• Updating information on accredited veterinarians.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.477348 hours per response.

Respondents: Accredited veterinarians, candidates for the Veterinary Accreditation Program, and State animal health officials who review applications for veterinary accreditation and reaccreditation.

Estimated annual number of respondents: 63,000.

Estimated annual number of responses per respondent: 2.095936.

Estimated annual number of responses: 132,044.

Estimated total annual burden on respondents: 63,031 hours. (Due to averaging, the total annual burden hours may not equal the product of the annual number of responses multiplied by the reporting burden per response.)

All responses to this notice will be summarized and included in the request for OMB approval. All comments will also become a matter of public record.

Done in Washington, DC, this 30th day of December 2002.
Peter Fernandez,
Acting Administrator, Animal and Plant Health Inspection Service.

[FR Doc. 03-214 Filed 1-3-03; 8:45 am]

BILLING CODE 3410-34-P